DEPARTMENT OF THE INTERIOR

National Park Service

National Park of American Samoa, Federal Advisory Commission; Notice of Meeting

Notice is given in accordance with the Federal Advisory Committee Act that a meeting of the National Park of American Samoa Federal Advisory Commission will be held from 9 a.m. to 2 p.m., Saturday, July 27, 2002, in the village of Olosega, Olosega Island, American Samoa. In case of flight cancelations to the island of Olosega an alternative meeting site will be at Pago Plaza, Pago Pago, American Samoa. The same date and time period will be used. The agenda for the meeting will include:

Roll Call, Welcome and introductions

Approval of the minutes of the last two meetings

Superintendents report and discussion

Other Board issues

Public comments

The meeting is open to the public and opportunity will be provided for public comments prior to closing the meeting. The meeting will be recorded for documentation and transcribed for dissemination. Minutes of the meeting will be available to the public after they have been approved by the full Advisory Commission. For copies of the minutes, contact the National Park of American Samoa Superintendent at 011 (684) 633-7082 or email NPSA_Superintendent@nps.gov.

Dated: June 4, 2002.
Charles Cranfield,
Superintendent, National Park of American Samoa.

[FR Doc. 02-17800 Filed 7-15-02; 8:45 am]

BILLING CODE 4310-70-P